FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records entitled, BGFRS-12 “FRB—Bank Officers Personnel System” which the Board proposes to rename as BGFRS-12 “FRB—Bank Employees Personnel System.” BGFRS-12 is a system of records that contains personal and organizational information about Federal Reserve Bank officers, which the Board is modifying to include all Reserve Bank employees. It is used by the Human Resources Section within the Board's Division of Reserve Bank Operations and Payment Systems (RBOPS) to assist the Board in its oversight of the Federal Reserve Banks including reviewing Reserve Bank compliance with the Federal Reserve Administrative Manual through reviews and monitoring.

DATES: Comments must be received on or before August 15, 2022. This modified system of records will become effective August 15, 2022, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-12: FRB—Bank Employees Personnel System, by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons. Public comments may also be viewed electronically and in-person in Room M-4365A, 2001 C St. NW Washington, DC 20551, between 9:00 a.m. and 5:00 p.m. during federal business weekdays.

FOR FURTHER INFORMATION CONTACT: David B. Husband, Senior Counsel, (202) 530-6270, or david.b.husband@frb.gov; Legal Division, Board of Governors of the Federal Reserve System, 20th Street and Constitution Avenue NW, Washington, DC 20551. If you are deaf, hearing or speech impaired, please dial 7-1-1 to access telecommunication relay services.

SUPPLEMENTARY INFORMATION: The Division of Reserve Bank Operations and Payments Systems Human Resources section (RBOPS HR) at the Board of Governors has an ongoing need for access to Reserve Bank official staff and employee information to effectively carry out its oversight responsibilities on behalf of the Board and its Committee on Federal Reserve Bank Affairs. This access supports various oversight activities including System-wide analysis for members of the Board of Governors or leadership of the Board, the assessment of various Reserve Bank requests, compliance with congressional requirements, and to assist in its oversight of the Federal Reserve Bank's compliance with the Federal Reserve Administrative Manual through reviews and off-site monitoring.

The Board is modifying this system to reflect changes in the operation of the system. Previously, BGFRS 12 was limited solely to Reserve Bank officers, but due to a change to the needs of RBOPS HR, will now include personnel information of all Federal Reserve Bank employees (officers, non-officers, and interns) in the system of records. Accordingly, the Board is making changes to the system name, categories of individuals covered by the system, adding more details to the types of information collected, and changing the title for the System Manager.

SYSTEM NAME AND NUMBER:

BGFRS-12 “FRB—Bank Employees Personnel System.”

SECURITY CLASSIFICATION:

Unclassified.

SYSTEM LOCATION:

Federal Reserve Bank of Kansas City, 1 Memorial Drive, Kansas City, Missouri 64198.

SYSTEM MANAGER(S):

Doreen Chappell, Manager, Human Resources Section, Reserve Bank Operations and Payment Systems, Board of Governors of the Federal Reserve System, 20th Street and Constitution Avenue NW, Washington, DC 20551, 202-721-4529, or doreen.s.chappell@frb.gov.

AUTHORITY FOR MAINTENANCE OF THE SYSTEM:

Sections 4, 10, 11, and 21 of the Federal Reserve Act (12 U.S.C. 247, 248, 307, and 485).

PURPOSE(S) OF THE SYSTEM:

These records are collected and maintained to assist the Board in its oversight of the Federal Reserve Banks. The Board's use includes ensuring compliance with the Federal Reserve Administrative Manual through reviews and monitoring.

CATEGORIES OF INDIVIDUALS COVERED BY THE SYSTEM:

All current and former Federal Reserve Bank employees, including interns, but not including contractors.

CATEGORIES OF RECORDS IN THE SYSTEM:

Past and present Federal Reserve Bank employee information would be limited to data elements directly associated with the Board's oversight role, such as demographic and employment information and compensation-related transactions that have occurred during the employee's employment.

RECORD SOURCE CATEGORIES:

The individual to whom the record pertains, Federal Reserve Bank staff, and Federal Reserve System personnel systems all provide the information contained within this system of records.

ROUTINE USES OF RECORDS MAINTAINED IN THE SYSTEM, INCLUDING CATEGORIES OF USERS AND PURPOSES OF SUCH USES:

General routine uses, A, B, C, D, F, G, H, I, and J apply to this system. These general routine uses are located at https://www.federalreserve.gov/files/SORN-page-general-routine-uses-of-board-systems-of-records.pdf and are published in the Federal Register at 83 FR 43872 (August 28, 2018) at 43873-74.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Staff can retrieve records by name or employee identification number.

POLICIES AND PRACTICES FOR RETENTION AND DISPOSAL OF RECORDS:

Records are retained for at least three years in accordance with applicable record retention schedules.

ADMINISTRATIVE, TECHNICAL, AND PHYSICAL SAFEGUARDS:

Access to records is limited to those whose official duties require it.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

No exemptions are claimed for this system.

HISTORY:

This system was previously published in the Federal Register at 73 FR 24984, at 24996 (May 6, 2008). The SORN was also amended to incorporate two new routine uses required by OMB at 83 FR 43872 (August 28, 2018).

Board of Governors of the Federal Reserve System.
Ann Misback,
Secretary of the Board.

[FR Doc. 2022-15197 Filed 7-14-22; 8:45 am]

BILLING CODE 6210-01-P